DEPARTMENT OF VETERANS AFFAIRS

[OMB Control No. 2900-0085]

Agency Information Collection Activity Under OMB Review: Appeal to Board of Veterans' Appeals

AGENCY: Board of Veterans' Appeals, Department of Veterans Affairs.

ACTION: Notice.

SUMMARY: In compliance with the Paperwork Reduction Act (PRA) of 1995, this notice announces that the Board of Veterans' Appeals, Department of Veterans Affairs, will submit the collection of information abstracted below to the Office of Management and Budget (OMB) for review and comment. The PRA submission describes the nature of the information collection and its expected cost and burden and it includes the actual data collection instrument.

DATES: Comments must be submitted on or before August 1, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0085” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0085” in any correspondence.

SUPPLEMENTARY INFORMATION:

Authority: Public Law 115-55; 38 U.S.C. 5104B, 5108, 5701, 5901, 7103, 7104, 7105, 7101.

Title: Appeal to Board of Veterans' Appeals, VA Form 9; Services Withdrawal by Representative; Requests for Change to Hearing Date; Motions for Reconsideration.

OMB Control Number: 2900-0085.

Type of Review: Extension of a currently approved collection.

Abstract: Appellate review of the denial of VA benefits may only be completed by filing a VA Form 9, “Appeal to Board of Veterans' Appeals.” 38 U.S.C. 7105(a) and (d)(3). Additionally, the proposed information collections allow for withdrawal of services by a representative, requests for changes in hearing dates and methods under 38 U.S.C. 7107, and motions for reconsideration pursuant to 38 U.S.C. 7103(a).

An agency may not conduct or sponsor, and a person is not required to respond to a collection of information unless it displays a currently valid OMB control number. The Federal Register Notice with a 60-day comment period soliciting comments on this collection of information was published at 83 FR 18878 on April 30, 2018.

Affected Public: Individuals and households.

Estimated Annual Burden: 59,770 hours.

Estimated Average Burden per Respondent: 61.196 minutes.

Frequency of Response: Once.

Estimated Number of Respondents: 58,602.

By direction of the Secretary.
Cynthia D. Harvey-Pryor,
Department Clearance Officer, Office of Quality, Privacy and Risk, Department of Veterans Affairs.

[FR Doc. 2018-14105 Filed 6-29-18; 8:45 am]

BILLING CODE 8320-01-P